DEPARTMENT OF JUSTICE

Notice of Lodging of Proposed Consent Decree

In accordance with Departmental Policy, 28 CFR 50.7, notice is hereby given that a proposed Consent Decree in United States v. Brock Maslonka, Case No. 2:20-cv-304-SAB, (E.D. Wash.), was lodged with the United States District Court for the Eastern District of Washington on July 14, 2023.

This proposed Consent Decree concerns a complaint filed by the United States against Defendant Brock Maslonka, pursuant to section 301(a) of the Clean Water Act, 33 U.S.C. 1311(a), to obtain injunctive relief from and impose civil penalties against the Defendant for violating the Clean Water Act by discharging pollutants without a permit into waters of the United States. The proposed Consent Decree resolves these allegations by requiring the Defendant to restore the impacted areas, perform mitigation, and pay a civil penalty.

The Department of Justice will accept written comments relating to this proposed Consent Decree for thirty days from the date of publication of this Notice. Please address comments to Gus Maxwell by mail at United States Department of Justice, Environment and Natural Resources Division, Environmental Defense Section, Denver Place Building, 999 18th Street, Suite 370—South Terrace, Denver, CO 80202, or by email at pubcomment_eds.enrd@usdoj.gov, and refer to United States v. Brock Maslonka, DJ #90-5-1-1-21697.

The proposed Consent Decree may be examined at the Clerk's Office, United States District Court for the Eastern District of Washington, Thomas S. Foley United States Courthouse, 920 West Riverside Avenue, Room 840, Spokane, WA 99201. In addition, the proposed Consent Decree may be examined electronically at https://www.justice.gov/enrd/consent-decrees.

Cherie Rogers,
Assistant Section Chief, Environmental Defense Section, Environment and Natural Resources Division.

[FR Doc. 2023-15622 Filed 7-21-23; 8:45 am]

BILLING CODE P